DEPARTMENT OF JUSTICE

Notice of Lodging of a Consent Decree Under the Comprehensive Environmental Response, Compensation, and Liability Act

Notice is hereby given that on November 4, 2008, a proposed Consent Decree in the case of United States and State of North Carolina v. Plantation Pipeline Company, Docket No. 3:08-cv-500, was lodged with the United States District Court for the Western District of North Carolina.

In this proceeding, the United States filed claims pursuant to the Clean Water Act, 33 U.S.C. 1251-1387, for civil penalties and injunctive relief resulting from four discharges of oil from pipelines owned and/or operated by the Defendant in the States of Georgia, North Carolina, and Virginia, during the period January 2000 to November 2006. The Consent Decree also resolves a claim that Defendant failed to prepare and implement a Spill Prevention, Control, and Countermeasure Plan for a Virginia facility, as required by 40 CFR 112.3. Pursuant to the Consent Decree, Defendant agrees to pay civil penalties of $715,000 plus interest to the United States, and $10,000 plus interest to the State of North Carolina. Defendant also agrees to perform work on its pipeline system to address the causes of the spills.

The Department of Justice will receive, for a period of thirty (30) days from the date of this publication, comments relating to the Consent Decree. Comments should be addressed to the Assistant Attorney General, Environment and Natural Resources Division, and either e-mailed to pubcomment-ees.enrd@usdoj.gov, or mailed to: P.O. Box 7611, U.S. Department of Justice, Washington, DC 20044-7611, and should refer to: U.S. v. Plantation Pipeline Company, DJ. Ref. 90-5-1-1-08337. The Consent Decree may be examined at: U.S. EPA Region III, Office of Regional Counsel, 1650 Arch Street, Philadelphia, PA 19103-2029, c/o Natalie Katz, Esq.; at U.S. EPA Region IV, Office of Regional Counsel, 61 Forsyth Street, SW., Atlanta, GA 30303-8960, c/o Joan Redleaf Durbin, Esq.; and at the United States Attorney's Office for the Western District of North Carolina, 227 West Trade Street, Charlotte, NC 28202, c/o Sid Alexander, Esq.

During the public comment period, the Consent Decree may also be examined at the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Robert Brook,
Assistant Chief, Environmental Enforcement Section, Environment and Natural Resources Division.

[FR Doc. E8-27720 Filed 11-20-08; 8:45 am]

BILLING CODE 4410-15-P